DEPARTMENT OF DEFENSE

Department of the Army, Corps of Engineers

Intent To Prepare a Draft Environmental Impact Statement for a Feasibility Study of the Trilby Wash Study Area

AGENCY: Department of the Army, U.S. Army Corps of Engineers, DOD.

ACTION: Notice of intent.

SUMMARY: Analyses of foreseeable environmental impacts from potential actions in the vicinity of Trilby Wash and the McMicken Dam project area located near the Cities of Surprise, Sun City, El Mirage Litchfield Park and Goodyear, Maricopa County, Arizona will commence. No explicit plans have been advanced as yet, so contents of the Draft Environmental Impact Statement (DEIS) remain to be determined during the public scoping process. The Trilby Wash Study area encompasses the Trilby Wash watershed upstream and downstream from the McMicken Dam Project which includes: McMicken Dam, McMicken Dam Outlet Channel and McMicken Dam Outlet Wash, approximately 9 miles, 6 miles, and 4 miles respectively in length. The McMiken Dam Outlet Wash discharges to the Agua Fria River in Maricopa County, Central Arizona.

The purposes of this Feasibility Study are to develop and evaluate potential non-structural and engineered solutions to address flooding issues within the study area, to investigate opportunities for ecosystem restoration, and to provide recreational opportunities concurrent with flood risk management and ecosystem restoration. If there are measures and alternatives or plans that could be implemented within the U.S. Army Corps of Engineers, (USACE) missions, the Flood Control District of Maricopa County (FCDMC) has indicated their interest to support and provide necessary cost-sharing and other requirements for the project. The USACE and FCDMC will cooperate in conducting this Feasibility Study.

ADDRESSES: District Engineer, U.S. Army Corps of Engineers, Los Angeles District, ATTN: CESPL-PD-RP, P.O. Box 532711, Los Angeles, CA 90053-2325.

FOR FURTHER INFORMATION CONTACT: Mr. Michael J. Fink, Environmental Manager, telephone (602) 640-2001, ext. 232, or Ms. Gwen Meyer, Project Manager, telephone (602) 640-2004, ext. 281. The cooperating entity, Flood Control District of Maricopa County, requests inquiries be directed to Mr. Sam Sherman, P.E., telephone (602) 506-3639 for any additional information.

SUPPLEMENTARY INFORMATION: 1. Authorization. This study has been conducted under the authority provided by the Flood Control Act of 1938. This authority directs the Secretary of the Army, through the Chief of Engineers, to conduct preliminary examinations and surveys for flood control on the Gila River and tributaries in Arizona. Further authority is provided under House Committee on Public Works Resolution (Docket 2425) May 17, 1994 which states:

“* * * The Secretary of Army is hereby requested to review reports of the Chief of Engineers on the State of Arizona * * * in the interest of flood damage reduction, environmental protection and restoration, and related purposes.”

2. Background. The study area encompasses Trilby Wash watershed upstream from McMiken Dam, McMiken Dam itself, (approximately 10 miles in length) the Outlet Channel and Outlet Wash to the Agua Fria River, (an additional 10 miles). Originally termed the Trilby Wash Detention Basin Dam, McMicken Dam was constructed by the United States Army Corps of Engineers (USACE) in 1954 and 1955 to protect Luke Air Force Base, the Litchfield Park Naval Air Facility and agriculture activities in the area from flooding. Since its initial construction, new communities, such as Sun City Grand and Arizona Traditions and the Cities of Glendale, Peoria and Surprise have developed downstream from the dam. These communities have been afforded significant flood protection by McMicken Dam as a flood control structure. The dam is operated and maintained by the FCDMC. The dam also provides flood protection for critical public facilities and infrastructure such as; hospitals, schools, police and fire stations, freeways and other public roadways, railroads and canals. The ability of the dam and associated channels to maintain the current level of flood protection for the benefit of the public in an increasingly urbanized environment is in question due to concerns regarding aging infrastructure, land subsidence, earth fissuring, urbanization encroachment, changed hydrologic conditions, and current dam safety standards.

The FCDMC has completed numerous studies and has ongoing projects associated with flood risk management within the study area. This includes but is not limited to Area Drainage Master Plans, alternatives analysis of measures to rehabilitate McMicken Dam, and remediation of fissure risks. The Corps of Engineers and FCDMC entered into a cost share agreement to complete a feasibility study in September 2004. This feasibility study will utilize and expand existing information and work products completed by FCDMC and evaluate Federal participation in addressing issues identified within the study area.

The potential environmental impacts to be evaluated by this DEIS will include: (1) Non-structural solutions to address flooding issues; (2) engineered solutions to address flooding issues; (3) opportunities for ecosystem restoration, and; (4) designs for recreational features which would be most compatible with the natural resources of the region.

3. Proposed Action. No plan of action has yet been identified.

4. Alternatives. (a) No Action: No plans would be implemented to reduce flood risk. (b) Proposed Alternative Plans: None have been formulated to date.

5. Public Involvement. Public involvement, an essential part of the EIS process, is integral to assessing the environmental consequences of the proposed action and improving the quality of the environmental decision making. The public includes affected and interested Federal, State, and local agencies, Indian tribes, concerned citizens, stakeholders, and other interested parties. Public participation in the EIS process will be strongly encouraged, both formally and informally, to enhance the probability of a more technically accurate, economically feasible, and socially and politically acceptable EIS. Public involvement will include but is not limited to: Information dissemination; identification of problems, needs and opportunities; idea generation; public education; problem solving; providing feedback on proposals; evaluation of alternatives; conflict resolution by consensus; public and scoping notices and meetings; public, stakeholder and advisory groups consultation and meetings; and making the EIS and supporting information readily available in conveniently located places, such as libraries and on the Internet.

Participation of all interested Federal, State, and County resource agencies, as well as Native American peoples, groups with environmental interests, and all interested individuals is encouraged. Public involvement will be most beneficial and worthwhile in identifying pertinent environmental issues, offering useful information such as published or unpublished data, direct personal experience or knowledge which inform decision making, assistance in defining the scope of plans which ought to be considered, and recommending suitable mitigation measures warranted by such plans. Those wishing to contribute information, ideas, alternatives for actions, and so forth can furnish these contributions in writing to the points of contacts indicated above, or by attending public scoping meetings. Notice of public scoping meetings will be published in the local and regional newspapers.

When plans have been devised and alternatives formulated to embody those plans, potential environmental and social impacts will be evaluated in the DEIS. These analyses will emphasize at least fifteen categories of resources: Land use, hazardous wastes, physical environment, hydrology, groundwater, biological, archaeological, historical, geological, air quality, noise, transportation, socioeconomics, and safety.

6. Scoping Process. Scoping, an early and open process for identifying the scope of significant issues related to the proposed action to be addressed in the EIS, will be used to: (a) Identify the affected public and agency concerns; (b) facilitate an efficient EIS preparation process; (c) define the issues and alternatives that will be examined in detail in the EIS; and (d) save time in the overall process by helping to ensure that the Draft EIS adequately addresses relevant issues. An initial public scoping meeting will be held on Thursday, June 25, 2009, in Surprise, AZ. Announcements through local and regional media, as well as a scoping meeting public notice announcing the location, date and time of the scoping meeting will be mailed to all interested parties during June 2009. Interested parties are encouraged to express their views throughout the entire study process. Comments will be welcomed at the public scoping meeting. In addition, written comments will also be accepted during the scoping comment period which will extend 30 days from the date of the scoping meeting public notice.

7. Interagency Coordination and Cooperation. The USACE and the USFWS have formally committed to work together to conserve, protect, and restore fish and wildlife resources while ensuring environmental sustainability of our Nation's water resources under the January 22, 2003, Partnership Agreement for Water Resources and Fish and Wildlife. The USFWS will provide a Fish and Wildlife Coordination Act Report. Coordination will be maintained with the USFWS regarding threatened and endangered species under their jurisdictional responsibilities. The Arizona Game and Fish Department (AZGFD) will be consulted concerning potential impacts to sensitive species and habitats. Coordination will be maintained with the Advisory Counsel on Historic Preservation and the State Historic Preservation Officer (SHPO). Coordination will be maintained with the U.S. Environmental Protection Agency (USEPA) concerning compliance with Executive Order 12898, “Federal Action to Address Environmental Justice in Minority Populations and Low-Income Populations.”

8. Availability of the EIS. It is anticipated that the DEIS will be available for public review during the spring of 2011. The DEIS or a Notice of Availability (NOA) will be provided during the 45-day review period to affected Federal, State and local agencies, Indian Tribes, and other interested parties.

Brenda S. Bowen,
Army Federal Register Liaison Officer.

[FR Doc. E9-12388 Filed 5-27-09; 8:45 am]

BILLING CODE 3720-58-P